OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 6.6 and 213.103.

FOR FURTHER INFORMATION CONTACT: Glenda Haendschke, Acting Group Manager, Executive Resources Services Group, Center for Human Resources, Division for Human Capital Leadership and Merit System Accountability, 202-606-2246.

SUPPLEMENTARY INFORMATION: Appearing in the listing below are the individual authorities established under Schedules A, B, and C between February 1, 2009, and February 28, 2009. Future notices will be published on the fourth Tuesday of each month, or as soon as possible thereafter. A consolidated listing of all authorities as of September 30 is published each year. The following Schedules are not codified in the Code of Federal Regulations. These are agency specific exceptions.

Schedule A

Schedule A appointments in the month of February 2009.

Section 213.3106(1) Special Inspector General for Afghanistan Reconstruction

(1) Positions needed to establish the Special Inspector General for Afghanistan Reconstruction. These positions provide for the independent and objective conduct and supervision of audits and investigations relating to the programs and operations funded with amounts appropriated and otherwise made available for the reconstruction of Afghanistan. These positions are established at the General Schedule (GS) grade levels 12-15, for initial employment not to exceed 3 years and may, with prior approval of OPM, be extended for an additional period of 2 years. No new appointments may be made under this authority after January 31, 2011.

Schedule B

No Schedule B appointments were approved for February 2009.

Schedule C

The following Schedule C appointments were approved during February 2009.

Section 213.3305 Department of the Treasury

DYGS00377 Special Assistant to the Special Assistant to the Secretary. Effective February 17, 2009.

DYGS00413 White House Liaison to the Chief of Staff. Effective February 17, 2009.

DYGS00423 Special Assistant to the Secretary. Effective February 17, 2009.

DYGS00440 Public Affairs Specialist to the Director, Public Affairs. Effective February 17, 2009.

DYGS00468 Public Affairs Specialist to the Director, Public Affairs. Effective February 17, 2009.

DYGS00482 Deputy Executive Secretary to the Executive Secretary. Effective February 17, 2009.

DYGS00486 Special Assistant to the Director of Scheduling and Advance. Effective February 17, 2009.

DYGS00501 Special Assistant to the Under Secretary for Domestic Finance. Effective February 17, 2009.

DYGS00507 Special Assistant to the Secretary. Effective February 17, 2009.

DYGS00508 Special Assistant to the Executive Secretary. Effective February 17, 2009.

DYGS00511 Special Assistant to the Counselor to the Secretary. Effective February 17, 2009.

DYGS60139 Director of Scheduling and Advance to the Chief of Staff. Effective February 17, 2009.

DYGS60277 Speechwriter to the Assistant Secretary (Public Affairs). Effective February 7, 2009.

DYGS60421 Special Assistant to the Deputy Assistant Secretary for Legislative Affairs (Tax and Budget). Effective February 17, 2009.

DYGS00250 Director, Public Affairs to the Deputy Assistant Secretary (Public Affairs). Effective February 23, 2009.

Section 213.3306 Department of Defense

DDGS17184 Deputy White House Liaison to the Special Assistant to the Secretary of Defense for White House Liaison. Effective February 13, 2009.

Section 213.3311 Department of Homeland Security

DMGS00613 Speechwriter to the Director of Speechwriting. Effective February 23, 2009.

DMGS00664 Advance Representative to the Director of Scheduling and Advance. Effective February 23, 2009.

DMGS00765 Special Assistant to the Chief of Staff. Effective February 23, 2009.

DMGS00769 Confidential Assistant to the White House Liaison. Effective February 23, 2009.

DMGS00770 Confidential Assistant to the Secretary of the Department of Homeland Security. Effective February 23, 2009.

DMGS00800 Deputy Chief of Staff (Policy) to the Chief of Staff to the Secretary (Policy). Effective February 23, 2009.

Section 213.3311 Department of Homeland Security

DIGS01134 Deputy Director, Office of Communications to the Director, Office of Communications. Effective February 06, 2009.

DIGS01135 Special Assistant to the Secretary. Effective February 06, 2009.

DIGS01142 Special Assistant to the Director, External and Intergovernmental Affairs. Effective February 20, 2009.

DIGS01136 Special Assistant to the White House Liaison. Effective February 23, 2009.

DIGS01137 Special Assistant to the Deputy Chief of Staff. Effective February 23, 2009.

DIGS01138 Special Assistant to the Special Assistant to the Secretary. Effective February 23, 2009.

DIGS01139 Special Assistant to the Special Assistant to the Secretary. Effective February 23, 2009.

Section 213.3314 Department of Commerce

DCGS00205 Special Assistant to the Administrator to the Under Secretary Oceans and Atmosphere (Administrator National Oceanic and Atmospheric Administration). Effective February 10, 2009.

DCGS00428 Deputy Director, Office of the White House Liaison to the Director Office of White House Liaison. Effective February 10, 2009.

DCGS60001 Deputy Director, Office of Business Liaison to the Director, Office of Business Liaison. Effective February 11, 2009.

Section 213.3315 Department of Labor

DLGS60007 Special Assistant to the Secretary of Labor. Effective February 19, 2009.

DLGS60170 Special Assistant to the Secretary of Labor. Effective February 19, 2009.

DLGS60181 Special Assistant to the Secretary of Labor. Effective February 19, 2009.

DLGS60132 Senior Advisor to the Secretary of Labor. Effective February 24, 2009.

DLGS60042 Special Assistant to the Assistant Secretary for Public Affairs. Effective February 25, 2009.

DLGS60118 Staff Assistant to the Secretary of Labor. Effective February 25, 2009.

DLGS60182 Special Assistant to the Secretary of Labor. Effective February 25, 2009.

DLGS60231 Office Clerk to the Deputy Secretary of Labor. Effective February 27, 2009.

Section 213.3316 Department of Health and Human Services

DHGS60070 Special Assistant to the Assistant Secretary for Planning and Evaluation. Effective February 10, 2009.

Section 213.3317 Department of Education

DBGS00262 Confidential Assistant to the Deputy Chief of Staff for Strategy. Effective February 09, 2009.

DBGS00511 Executive Assistant to the Deputy Chief of Staff for Strategy. Effective February 09, 2009.

DBGS00523 Director, White House Liaison to the Deputy Chief of Staff for Strategy. Effective February 09, 2009.

DBGS00537 Special Assistant to the Deputy Chief of Staff for Strategy. Effective February 09, 2009.

DBGS00576 Special Assistant to the Deputy Chief of Staff for Strategy. Effective February 09, 2009.

DBGS00635 Special Assistant to the Deputy Chief of Staff for Strategy. Effective February 09, 2009.

DBGS00589 Confidential Assistant to the Assistant Secretary, Office of Communications and Outreach. Effective February 10, 2009.

DBGS00652 Special Assistant to the Director, Executive Management Staff. Effective February 10, 2009.

DBGS00276 Confidential Assistant to the Deputy Chief of Staff for Strategy. Effective February 11, 2009.

DBGS00396 Special Assistant to the Deputy Chief of Staff for Strategy. Effective February 11, 2009.

DBGS00543 Confidential Assistant to the Assistant Secretary for Legislation and Congressional Affairs. Effective February 25, 2009.

DBGS00554 Confidential Assistant to the Director, Scheduling and Advance Staff. Effective February 25, 2009.

DBGS00655 Special Assistant to the Director, Scheduling and Advance Staff. Effective February 25, 2009.

Section 213.3318 Environmental Protection Agency

EPGS07013 Deputy to the Scheduler to the Director of Scheduling. Effective February 06, 2009.

EPGS07020 Confidential Assistant to the Deputy Administrator. Effective February 06, 2009.

EPGS08002 Deputy Associate Administrator to the Associate Administrator for Public Affairs. Effective February 06, 2009.

EPGS09006 Deputy Press Secretary to the Associate Administrator for Public Affairs. Effective February 10, 2009.

EPGS07023 Advance Specialist to the Deputy Chief of Staff (Operations). Effective February 19, 2009.

EPGS03606 Press Secretary to the Associate Administrator for Public Affairs. Effective February 25, 2009.

EPGS08007 Director of Operations to the Deputy Chief of Staff (Operations). Effective February 25, 2009.

EPGS09007 Confidential Assistant to the Administrator. Effective February 25, 2009.

EPGS09008 White House Liaison to the Administrator. Effective February 25, 2009.

EPGS05006 Speech Writer to the Associate Administrator for Public Affairs. Effective February 26, 2009.

EPGS05017 Deputy Associate Administrator for Congressional Affairs to the Associate Administrator for Congressional and Intergovernmental Relations. Effective February 26, 2009.

Section 213.3325 United States Tax Court

JCGS60067 Trial Clerk to the Chief Judge. Effective February 13, 2009.

JCGS60069 Trial Clerk to the Chief Judge. Effective February 18, 2009.

Section 213.3327 Department of Veterans Affairs

DVGS60038 Special Assistant to the Deputy Secretary of Veterans Affairs. Effective February 23, 2009.

DVGS60013 Special Assistant to the Secretary of Veterans Affairs. Effective February 25, 2009.

Section 213.3331 Department of Energy

DEGS00703 Special Assistant to the Secretary, Department of Energy. Effective February 03, 2009.

DEGS00702 Advisor to the Secretary to the Secretary, Department of Energy. Effective February 04, 2009.

DEGS00710 Deputy Press Secretary to the Director, Office of Public Affairs. Effective February 04, 2009.

DEGS00709 Special Assistant and Scheduler to the Secretary to the Director, Office of Public Affairs. Effective February 05, 2009.

DEGS00711 Deputy Director of Public Affairs to the Director, Office of Public Affairs. Effective February 05, 2009.

DEGS00712 Press Secretary to the Director, Office of Public Affairs. Effective February 05, 2009.

DEGS00713 Special Assistant to the Secretary, Department of Energy. Effective February 05, 2009.

DEGS00704 Special Assistant to the Secretary, Department of Energy. Effective February 10, 2009.

DEGS00714 Special Assistant to the White House Liaison. Effective February 13, 2009.

DEGS00715 White House Liaison to the Secretary, Department of Energy. Effective February 13, 2009.

DEGS00716 Deputy Chief of Staff to the Chief of Staff. Effective February 13, 2009.

DEGS00717 Special Assistant to the Secretary, Department of Energy. Effective February 19, 2009.

DEGS00718 Economic Recovery Advisor to the Assistant Secretary (Electricity Delivery and Energy Reliability). Effective February 25, 2009.

DEGS00719 Press Assistant to the Director, Office of Public Affairs. Effective February 25, 2009.

DEGS00720 Lead Advance Representative to the Secretary, Department of Energy. Effective February 26, 2009.

DEGS00721 Chief Speechwriter to the Director, Office of Public Affairs. Effective February 27, 2009.

DEGS00722 Special Assistant to the Secretary, Department of Energy. Effective February 27, 2009.

DEGS00724 Director, Office of Scheduling and Advance to the Secretary, Department of Energy. Effective February 27, 2009.

Section 213.3332 Small Business Administration

SBGS00675 Special Assistant to the Administrator. Effective February 06, 2009.

SBGS00677 Confidential Assistant to the Administrator. Effective February 11, 2009.

SBGS00678 Special Assistant to the Administrator. Effective February 20, 2009.

SBGS00680 Assistant Administrator for the Office of Communications and Public Liaison. Effective February 27, 2009.

Section 213.3379 Commodity Futures Trading Commission

CTOT00005 Administrative Assistant to the Commissioner to a Commissioner. Effective February 18, 2009.

CTOT00082 Chief of Staff to the Chairperson. Effective February 18, 2009.

Section 213.3382 National Endowment for the Arts

NAGS00075 Director, Office of Government Affairs to the Chairman National Endowment for the Arts. Effective February 03, 2009.

Section 213.3384 Department of Housing and Urban Development

DUGS60054 Director of Press Relations to the Chief of Staff. Effective February 26, 2009.

DUGS60199 Staff Assistant to the Assistant Secretary for Public Affairs. Effective February 27, 2009.

DUGS60240 Speechwriter to the Assistant Secretary for Public Affairs. Effective February 27, 2009.

Section 213.3394 Department of Transportation

DTGS60358 Special Assistant for Scheduling and Advance to the Director for Scheduling and Advance. Effective February 11, 2009.

DTGS60375 White House Liaison to the Chief of Staff. Effective February 11, 2009.

DTGS60357 Special Assistant to the White House Liaison and Scheduling and Advance to the Director for Scheduling and Advance. Effective February 17, 2009.

Section 213.33 National Labor Relations Board

NLGS06891 Attorney-Advisor (Chief of Staff) to the Chairman. Effective February 18, 2009.

Authority: 5 U.S.C. 3301 and 3302; E.O. 10577, 3 CFR 1954-1958 Comp., p. 218.

Kathie Ann Whipple,
Acting Director, U.S. Office of Personnel Management.

[FR Doc. E9-6981 Filed 3-27-09; 8:45 am]

BILLING CODE 6325-39-P